DEPARTMENT OF ENERGY

Federal energy Regulatory Commission

Notice of termination of License by Implied Surrender

April 18, 2000.

Take notice that the following hydroelectric proceeding has been initiated by the Commission:

a. Proceeding Type: Termination of License by Implied Surrender.

b. Project No: 6032-041.

c. Date Initiated: November 23, 1999.

d. Co-licensees: Niagara Mohawk Power Corporation and Fourth Branch Associates (Mechanicville).

e. Name of Project: Mechanicville.

f. Location: The project is located on the Hudson River in Saratoga and Rensselaer Counties, New York. The project does not occupy federal or tribal lands.

g. Proceeding Initiated Pursuant to: 18 CFR 6.4.

h. FERC Contact: any questions on this notice should be addressed to Dave Snyder at (202) 219-2385.

i. Deadline for filing comments and or motions: May 24, 2000.

All documents (original and eight copies) should be filed with: David P. Boergers, Secretary, Federal Energy Regulatory Commission, 888 First Street, N.E., Washington, DC 20426.

Please include the Project Number (P-6032-041) on any comments or motions filed.

j. Description of Proceeding: By order issued on November 23, 1999, the Commission gave notice of its intent to accept the surrender of the license for the Mechanicville Project (89 FERC ¶ 61,194). On March 16, 2000, the Commission issued an Order Denying Rehearing regarding its November 23, 1999, order (90 FERC ¶ 61,250).

k. Locations of the Orders: A copy of each order is available for reproduction at the Commission's Public Reference Room, located at 888 First Street, NE, Room 2A, Washington, D.C. 20426, or by calling (202) 208-1371. The orders may be viewed on the web at www.ferc.fed.us/online/rims.htm. Call (202) 208—2222 for assistance.

l. Individuals desiring to be included on the Commission's mailing list should so indicate by writing to the Secretary of the Commission.

Comments, Protests, or Motions to Intervene—anyone may submit comments, a protest, or a motion to intervene in accordance with the requirements of Rules of Practice and Procedure, 18 CFR 385.210, 211, 214. In determining the appropriate action to take, the Commission will consider all protests or other comments filed, but only those who file a motion to intervene in accordance with the Commission's rules may become a party to the proceeding. Any comments, protests, or motions to intervene must be received on or before the specified comment date for the particular proceeding.

Filing and Service of Responsive Documents—Any filings must bear in all capital letters the title “COMMENTS”, “RECOMMENDATIONS FOR TERMS AND CONDITIONS”, “PROTEST”, OR “MOTION TO INTERVENE”, as applicable, and the Project Number of the particular proceeding to which the filing refers. Any of the above-named documents must be filed by providing the original and the number of copies provided by the Commission's regulations to: The Secretary, Federal Energy Regulatory Commission, 888 First Street, N.E., Washington, D.C. 20426.

Agency Comments—Federal, state, and local agencies are invited to file comments on the described proceeding. If an agency does not file comments within the time specified for filing comments, it will be presumed to have no comments.

David P. Boergers,
Secretary.

[FR Doc. 00-10101 Filed 4-21-00; 8:45 am]

BILLING CODE 6717-01-M